DEPARTMENT OF DEFENSE

Office of the Secretary

[Docket ID: DoD-2024-OS-0116]

Submission for OMB Review; Comment Request

AGENCY: Office of the Under Secretary of Defense for Intelligence and Security (OUSD(I&S)), Department of Defense (DoD).

ACTION: 30-Day information collection notice.

SUMMARY: The DoD has submitted to the Office of Management and Budget (OMB) for clearance the following proposal for collection of information under the provisions of the Paperwork Reduction Act.

DATES: Consideration will be given to all comments received by February 10, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: National Industrial Security System (NISS); DCSA Form 147; OMB Control Number 0705-0006.

Type of Request: Extension.

Number of Respondents: 11,671.

Responses per Respondent: 2.

Annual Responses: 23,342.

Average Burden per Response: 1.5 hours.

Annual Burden Hours: 35,013.

Needs and Uses: The information collection requirement is necessary for DCSA to oversee the National Industrial Security Program (NISP) pursuant to Executive Order 12829. The National Industrial Security System (NISS) is the primary collection instrument for DCSA oversight of the NISP and maintaining data associated with cleared facilities and their oversight. The NISS is the repository of records related to the maintenance of information pertaining to contractor facility security clearances (FCL) and contractor capabilities to protect classified information in its possession. The information is utilized to determine if a company and its key management personnel are eligible for issuance of a facility clearance in accordance with 32 CFR part 117 requirements. In addition, information is utilized to inform Government Contracting Activities of contractor's ability to maintain facility clearance status and/or storage capability as well as to analyze vulnerabilities identified within security programs and ensure proper mitigation actions are taken to preclude unauthorized disclosure of classified information. As part of the FCL process, contractors must also complete and maintain a DCSA Form 147 in NISS. The form provides a single document to record the numerous characteristics of Open Storage Areas that are required to be reviewed for contractor facilities to be approved by DCSA for classified storage.

Affected Public: Business or other for-profit; not-for-profit institutions.

Frequency: On occasion.

Respondent's Obligation: Voluntary.

DoD Clearance Officer: Mr. Reginald Lucas.

Dated: January 3, 2025.
Aaron T. Siegel,
Alternate OSD Federal Register Liaison Officer, Department of Defense.

[FR Doc. 2025-00286 Filed 1-8-25; 8:45 am]

BILLING CODE 6001-FR-P